DEPARTMENT OF TRANSPORTATION

Federal Highway Administration

Notice of Final Federal Agency Actions on Proposed Highway in Ohio

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, the Cleveland Innerbelt Project, within the City of Cleveland, Cuyahoga County, Ohio. Those actions grant licenses, permits, and approvals for the project.

DATES: By this notice, the FHWA is advising the public of final agency actions subject to 23 U.S.C. 139(l)(1). A claim seeking judicial review of the Federal agency actions on the highway project will be barred unless the claim is filed on or before April 14, 2010. If the Federal law that authorizes judicial review of a claim provides a time period of less than 180 days for filing such claim, then that shorter time period still applies.

FOR FURTHER INFORMATION CONTACT: Mr. Herman Rodrigo, Office Director, Office of Engineering and Operations, Federal Highway Administration, 200 North High Street, Room 328, Columbus, Ohio 43215; telephone: (614) 280-6896; e-mail: ohio.fhwa@dot.gov; FHWA Ohio Division Office's normal business hours are 8 a.m. to 4:30 p.m. (eastern time). You may also contact Mr. Craig K. Hebebrand, PE, Project Manager, Ohio Department of Transportation (ODOT), District 12, 5500 Transportation Blvd., Garfield Heights, Ohio 44125; telephone: (216) 584-2113; e-mail: Craig.Hebebrand@dot.state.oh.us; ODOT District 12's normal business hours are 8 a.m. to 4:30 p.m. (eastern time).

SUPPLEMENTARY INFORMATION: Notice is hereby given that the FHWA and other Federal agencies have taken final agency actions subject to 23 U.S.C. 139(l)(1) by issuing licenses, permits, and approvals for the following major highway improvement project in the State of Ohio: The Cleveland Innerbelt Project provides for the major reconstruction and reconfiguration of Interstates 71 and 90, the I-90/I-77 interchange, the intersecting and overlapping local roadways, intersections, and interchanges, and the transitional connections to adjoining radial freeways and roadways. The Cleveland Innerbelt is routed across the Cuyahoga River valley and around the south and east sides of downtown Cleveland, Ohio. The Project length is approximately 3.24 miles. The Project's three main termini are located approximately at: (1) The merge/diverge point of State Route 176, (the Jennings Freeway) and Interstate 71 southwest of downtown, (2) the Pershing Avenue interchange on Interstate 77 south of downtown, and; (3) east of the Interstate 90/State Route 2 interchange east of downtown along the shore of Lake Erie and adjacent to the Burke Lakefront Airport. The current estimated Project cost to implement Alternative A, the approved environmentally preferred alternative, is $2.7 to $3.5 billion, based upon expected year of expenditure. Implementation is expected to occur in phases over the period from 2010 to 2033. The actions by the Federal agencies, and the laws under which such actions were taken, are described in the Cleveland Innerbelt Project, CUY—71/90—16.79/14.90, PID 77510, Conceptual Alternatives Study, dated and accepted on August 11, 2006, the Draft Environmental Impact Statement/Section 4(f) Evaluation, approved on March 3, 2009, the March 2009 Interchange Justification Study, the Final Environmental Impact Statement/Section 4(f) Evaluation, approved on July 22, 2009, and the Record of Decision, Section 4(f) Approval, and Interchange Justification Study Approval issued on September 18, 2009, and in other documents specifically incorporated into the listed documents by reference or by extension which in total constitute the Project environmental record. The Project environmental record and other Project records reside within the FHWA and ODOT administrative record/Project files. Project records are available for review by contacting either the FHWA or the ODOT at the addresses provided above. All of the above records as expressly listed are available for review on, and for downloading from, the Project's Web site as maintained by the ODOT District 12 Office in Garfield Heights, Ohio which is located within the City of Cleveland metro area. The Project Web site address is as follows: http://www.dot.state.oh.us/projects/ClevelandUrbanCoreProjects/Innerbelt/Pages/default.aspx.

This notice applies to all Federal agency decisions as of the issuance date of this notice and all laws under which such actions were taken, including but not limited to:

1. General: National Environmental Policy Act (NEPA) [42 U.S.C. 4321-4351]; Federal-Aid Highway Act [23 U.S.C. 109, 23 U.S.C. 128 and 23 U.S.C. 139].

2. Design: Federal-Aid Highway Act [23 U.S.C. 101 and 23 U.S.C. 109] FHWA, February 11, 1998 Interstate Access Policy: Additional Interchanges to the Interstate System.

3. Air: Clean Air Act, 42 U.S.C. 7401-7671(q).

4. Land: Section 4(f) of the Department of Transportation Act of 1966 [49 U.S.C. 303]; Federal-Aid Highway Act [23 U.S.C. 138]; Landscaping and Scenic Enhancement (Wildflowers) [23 U.S.C. 319].

5. Wildlife: Endangered Species Act [16 U.S.C. 1531-1544 and Section 1536]; Marine Mammal Protection Act [16 U.S.C. 1361]; Fish and Wildlife Coordination Act [16 U.S.C. 661-667(d)]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-(11)]; Archeological and Historic Preservation Act [16 U.S.C. 469-469(c)]; Native American Grave Protection and Repatriation Act (NAGPRA) [25 U.S.C. 3001-3013].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation [23 U.S.C. 103(b)(6)(M) and 133(b)(11)]; Flood Disaster Protection Act [42 U.S.C. 4001-4128].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: October 1, 2009.
Patrick A. Bauer,
Acting Division Administrator, Columbus, Ohio.

[FR Doc. E9-24321 Filed 10-15-09; 8:45 am]

BILLING CODE 4910-RY-P